DEPARTMENT OF THE TREASURY

United States Mint

Establish Pricing for United States Mint Numismatic Product

AGENCY: United States Mint, Department of the Treasury.

ACTION: Notice.

The United States Mint is announcing new pricing for a United States Mint numismatic product in accordance with the table below:

Product | 2021 retail price
George Herbert Walker Bush—Coin and Chronicles Set (20PA) | $120.00

FOR FURTHER INFORMATION CONTACT: Josephine Campbell, Marketing Specialist, Sales and Marketing; United States Mint; 801 9th Street NW, Washington, DC 20220; or call 202-354-7750.

Authority: Public Law 116-112.

Eric Anderson,
Executive Secretary, United States Mint.

[FR Doc. 2021-18310 Filed 8-25-21; 8:45 am]

BILLING CODE P